SMALL BUSINESS ADMINISTRATION

Disaster Declaration # 12530 and # 12531

North Carolina Disaster Number NC-00033

AGENCY: U.S. Small Business Administration.

ACTION: Amendment 2.

SUMMARY: This is an amendment of the Presidential declaration of a major disaster for the State of

North Carolina (FEMA—1969-DR), dated 04/19/2011.

Incident: Severe Storms, Tornadoes, and Flooding.

Incident Period: 04/16/2011.

Effective Date: 05/07/2011.

Physical Loan Application Deadline Date: 06/20/2011.

EIDL Loan Application Deadline Date: 01/20/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of North Carolina, dated 04/19/2011 is hereby amended to include the following areas as adversely affected by the disaster:

Primary Counties: (Physical Damage and Economic Injury Loans): Tyrrell.

Contiguous Counties: (Economic Injury Loans Only): North Carolina: Hyde.

All other information in the original declaration remains unchanged.

(Catalog of Federal Domestic Assistance Numbers 59002 and 59008)

Roger B. Garland,,
Acting Associate Administrator for Disaster Assistance.

[FR Doc. 2011-12261 Filed 5-17-11; 8:45 am]

BILLING CODE 8025-01-P